DEPARTMENT OF COMMERCE

National Oceanic and Atmospheric Administration

[I.D. 081001D]

Pacific Fishery Management Council; Public Meetings

AGENCY: National Marine Fisheries Service (NMFS), National Oceanic and Atmospheric Administration (NOAA), Commerce.

ACTION: Notice of public meetings.

SUMMARY: The Pacific Fishery Management Council (Council) and its advisory bodies will hold public meetings.

DATES: The Council and its advisory bodies will meet September 9-14, 2001. The Council meeting will begin on Tuesday, September 11, at 10:30 a.m., reconvening each day through Friday. All meetings are open to the public, except a closed session will be held from 10 a.m. until 10:30 a.m. on Tuesday, September 11 to address litigation and personnel matters. The Council will meet as late as necessary each day to complete its scheduled business.

ADDRESSES: The meetings and hearing will be held at the DoubleTree Hotel Columbia River, 1401 N Hayden Island Drive, Portland, OR 97217; telephone: 503-283-2111. Council address: Pacific Fishery Management Council, 7700 NE Ambassador Place, Suite 200, Portland, OR 97220.

FOR FURTHER INFORMATION CONTACT: Dr. Donald O. McIsaac, Executive Director; telephone: 503-326-6352.

SUPPLEMENTARY INFORMATION: The following items are on the Council agenda, but not necessarily in this order. All items listed are subject to potential Council action.

A. Call to Order

1. Opening Remarks, Introductions

2. Council Member Appointments

3. Roll Call

4. Executive Director's Report

5. Approve Agenda

6. Approve June 2001 Minutes

B. Pacific Halibut Management

1. Status of 2001 Fisheries

2. Status of Bycatch Estimate

3. Proposed Changes to the Catch Sharing Plan and Annual Regulations

C. Groundfish Management

1. National Marine Fisheries Service (NMFS) Report

2. Marine Recreational Fishery Statistics Survey Update

3. Preliminary Harvest Levels and Other Specifications for 2002

4. Groundfish Strategic Plan Implementation

5. Rebuilding Programs

6. Exempted Fishing Permits (EFP)

7. Proposed Management Measures for 2002

8. Status of Fisheries and Inseason Adjustments

9. Amendment 15 to the Groundfish Fishery Management Plan (FMP) - American Fisheries Act

10. Groundfish FMP Environmental Impact Statement

11. Full Retention Measures

12. 2002 Stock Assessment Schedule

D. Marine Reserves

1. Status Report on West Coast Marine Reserve Activities

2. Marine Reserve Proposals for Channel Island National Marine Sanctuary

E. Habitat Issues

Essential Fish Habitat Issues

F. Salmon Management

1. NMFS Report

2. Update of Ongoing Fisheries

3. Update on Scientific and Statistical Committee Methodology Review

4. Queets Coho Status Review

G. Highly Migratory Species Management

1. NMFS Report

2. Update on FMP Development

H. Coastal Pelagic Species Management

1. NMFS Report

2. Final Report on Squid Maximum Sustainable Yield Workshop

3. Pacific Sardine Fishery Update

I. Administrative and Other Matters

1. Status of Legislation

2. Appointments to Advisory Bodies

3. Report of the Budget Committee

4. Council Staff Work Load Priorities

5. November 2001 Council Meeting Draft Agenda

SCHEDULE OF ANCILLARY MEETINGS
SUNDAY, SEPTEMBER 9, 2001 |
No meetings currently scheduled. |
MONDAY, SEPTEMBER 10, 2001 |
Council Secretariat | 8 a.m.
Groundfish Advisory Subpanel | 8 a.m.
Groundfish Management Team | 8 a.m.
Scientific and Statistical Committee | 8 a.m.
Habitat Steering Group | 10 a.m.
Budget Committee | 10 a.m.
Groundfish Stock Assessment | 3:30 p.m.
Briefing |
TUESDAY, SEPTEMBER 11, 2001 |
Council Secretariat | 7 a.m.
California State Delegation | 7 a.m.
Oregon State Delegation | 7 a.m.
Washington State Delegation | 7 a.m.
Groundfish Advisory Subpanel | 8 a.m.
Groundfish Management Team | 8 a.m.
Scientific and Statistical Committee | 8 a.m.
Habitat Steering Group | 8 a.m.-2 p.m
Enforcement Consultants | Immediately following Council Session
WEDNESDAY, SEPTEMBER 12, 2001 |
Council Secretariat | 7 a.m.
California State Delegation | 7 a.m.
Oregon State Delegation | 7 a.m.
Washington State Delegation | 7 a.m.
Groundfish Advisory Subpanel | 8 a.m.
Coastal Pelagic Species Advisory Subpanel | 10 a.m.
Groundfish Management Team | As Necessary
Enforcement Consultants | As Necessary
THURSDAY, SEPTEMBER 13, 2001 |
Council Secretariat | 7 a.m.
California State Delegation | 7 a.m.
Oregon State Delegation | 7 a.m.
Washington State Delegation | 7 a.m.
Groundfish Advisory Subpanel | As Necessary
Groundfish Management Team | As Necessary
Enforcement Consultants | As Necessary
FRIDAY, SEPTEMBER 14, 2001 |
Council Secretariat | 7 a.m.
California State Delegation | 7 a.m.
Oregon State Delegation | 7 a.m.
Washington State Delegation | 7 a.m.
Enforcement Consultants | As Necessary

Although non-emergency issues not contained in this agenda may come before this Council for discussion, those issues may not be the subject of formal Council action during this meeting. Council action will be restricted to those issues specifically listed in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Ms. Carolyn Porter at (503) 326-6352 at least 5 days prior to the meeting date.

Dated: August 10, 2001.
Richard W. Surdi,
Acting Director, Office of Sustainable Fisheries, National Marine Fisheries Service.

[FR Doc. 01-20823 Filed 8-16-01; 8:45 am]

BILLING CODE 3510-22-S